DEPARTMENT OF ENERGY

Federal Energy Regulatory Commission

Sunshine Act; Notice

November 6, 2003.

The following notice of meeting is published pursuant to section 3(A) of the Government in the Sunshine Act (Pub. L. No 94-409), 5 U.S.C 552B:

Agency Holding Meeting: Federal Energy Regulatory Commission.

Date and Time: November 13, 2003, 10 a.m.

Place: Room 2C, 888 First Street, NE., Washington, DC 20426.

Status: Open.

Matters to be Considered: Agenda.

* Note: Items listed on the agenda may be deleted without further notice.

FOR FURTHER INFORMATION CONTACT: Magalie R. Salas, Secretary, Telephone (202) 502-8400. For a recording listing items stricken from or added to the meeting, call (202) 502-8627.

This is a list of matters to be considered by the Commission. It does not include a listing of all papers relevant to the items on the agenda; however, all public documents may be examined in the Reference and Information Center.

844th—Meeting November 13, 2003, Regular Meeting 10 a.m.

Administrative Agenda

A-1.

Docket# AD02-1, 000, Agency Administrative Matters.

A-2.

Docket# AD02-7, 000, Customer Matters, Reliability, Security and Market Operations.

A-3.

Docket# MO04-1, 000, Report on Winter Energy Market Assessments.

Markets, Tariffs and Rates—Electric

E-1.

Docket# EL03-212, 000, Ameren Services Company on behalf of: Union Electric Company and Central Illinois Public Service Company

American Electric Power Service Corporation on behalf of: Appalachian Power Company, Columbus Southern Power Company, Indiana Michigan Power Company, Kentucky Power Company, Kingsport Power Company, Ohio Power Company and Wheeling Power Company

Dayton Power and Light Company

Exelon Corporation of behalf of: Commonwealth Edison Company and Commonwealth Edison Company of Indiana, Inc.

First Energy Corporation on behalf of: American Transmission Systems, Inc.

Illinois Power Company and Northern Indiana Public Service Company

Other#s EL03-212, 001, Ameren Services Company on behalf of:Union Electric Company and Central Illinois Public Service Company

American Electric Power Service Corporation on behalf of: Appalachian Power Company, Columbus Southern Power Company, Indiana Michigan Power Company, Kentucky Power Company, Kingsport Power Company, Ohio Power Company and Wheeling Power Company

Dayton Power and Light Company

Exelon Corporation of behalf of: Commonwealth Edison Company and Commonwealth Edison Company of Indiana, Inc.

First Energy Corporation on behalf of: American Transmission Systems, Inc.

Illinois Power Company and Northern Indiana Public Service Company

E-2.

Docket# EL02-111, 004, Midwest Independent Transmission System Operator, Inc., PJM Interconnection, L.L.C., and all Transmission Owners (including the entities identified below) Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Entergy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc., and its subsidiary Superior Water, Light & Power Company, Montana-Dakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG&E Electric Services, Southwestern Public Service Company, Empire District Electric Company, Western Resources and Kansas Gas & Electric Co.

Other#S EL02-111, 005, Midwest Independent Transmission System Operator, Inc., PJM Interconnection, L.L.C., and all Transmission Owners (including the entities identified below) Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Entergy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc., and its subsidiary Superior Water, Light & Power Company, Montana-Dakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG&E Electric Services, Southwestern Public Service Company, Empire District Electric Company, Western Resources and Kansas Gas & Electric Co.

EL02-111, 006, Midwest Independent Transmission System Operator, Inc., PJM Interconnection, L.L.C., and all Transmission Owners (including the entities identified below) Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Entergy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc., and its subsidiary Superior Water, Light & Power Company, Montana-Dakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG&E Electric Services, Southwestern Public Service Company, Empire District Electric Company, Western Resources and Kansas Gas & Electric Co.

EL02-111, 007, Midwest Independent Transmission System Operator, Inc., PJM Interconnection, L.L.C., and all Transmission Owners (including the entities identified below) Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Entergy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc., and its subsidiary Superior Water, Light & Power Company, Montana-Dakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG&E Electric Services, Southwestern Public Service Company, Empire District Electric Company, Western Resources and Kansas Gas & Electric Co.

EL02-111, 008, Midwest Independent Transmission System Operator, Inc., PJM Interconnection, L.L.C., and all Transmission Owners (including the entities identified below) Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Entergy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc., and its subsidiary Superior Water, Light & Power Company, Montana-Dakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG&E Electric Services, Southwestern Public Service Company, Empire District Electric Company, Western Resources and Kansas Gas & Electric Co.

EL03-212, 000, Ameren Services Company on behalf of: Union Electric Company and Central Illinois Public Service Company

American Electric Power Service Corporation on behalf of: Appalachian Power Company, Columbus Southern Power Company, Indiana Michigan Power Company, Kentucky Power Company, Kingsport Power Company, Ohio Power Company and Wheeling Power Company

Dayton Power and Light Company

Exelon Corporation on behalf of: Commonwealth Edison Company and Commonwealth Edison Company of Indiana, Inc.

First Energy Corporation on behalf of: American Transmission Systems, Inc.

Illinois Power Company and Northern Public Service Company

EL04-4, 000, American Electric Power Service Corporation on behalf of: Appalachian Power Company, Columbus Southern Power Company, Indiana Michigan Power Company, Kentucky Power Company, Kingsport Power Company, Ohio Power Company and Wheeling Power Company

Commonwealth Edison Company, Commonwealth Edison Company of Indiana, Inc., and Dayton Power and Light Company v. Midwest Independent Transmission System Operator, Inc.

EL04-5, 000, American Electric Power Service Corporation et al., Commonwealth Edison Company, Commonwealth Edison Company of Indiana, Inc., and Dayton Power and Light Company v. PJM Interconnection, LLC

EL04-6, 000, American Electric Power Service Corporation, et al., Commonwealth Edison Company, Commonwealth Edison Company of Indiana, Inc., and Dayton Power and Light Company v. Ameren Services Company

EL04-7, 000, American Electric Power Service Corporation, et al., Commonwealth Edison Company, Commonwealth Edison Company of Indiana, Inc., and Dayton Power and Light Company v. Illinois Power Company

EL04-8, 000, American Electric Power Service Corporation, et al., Commonwealth Edison Company, and Commonwealth Edison Company of Indiana, Inc., v. Dayton Power and Light Company

EL04-9, 000, American Electric Power Service Corporation et al., and Dayton Power and Light Company v. Commonwealth Edison Company and Commonwealth Edison Company of Indiana, Inc.

EL04-10, 000, Commonwealth Edison Company, Commonwealth Edison Company of Indiana, Inc., and Dayton Power and Light Company v. American Electric Power Service Corporation, et al.,

E-3.

Docket# EL01-118, 000, Investigation of Terms & Conditions of Public Utility Market-Based Rate Authorizations

Other#s EL01-118, 001, Investigation of Terms & Conditions of Public Utility Market-Based Rate Authorizations

E-4.

Omitted

E-5.

Docket# ER03-1318, 000, New England Power Pool and ISO-New England Inc.

Other#s ER03-1318, 001, New England Power Pool and ISO-New England Inc.

E-6.

Omitted

E-7.

Docket# PL03-1, 000, Pricing Policy for Efficient Operation and Expansion of the Transmission Grid

E-8.

Omitted

E-9.

Docket# ER03-1381, 000, Southern Company Services, Inc

E-10.

Omitted

E-11.

Docket# ER03-1386, 000, Cleco Power LLC

E-12.

Omitted

E-13.

Omitted

E-14.

Omitted

E-15.

Docket# ER03-1345, 000, Midwest Independent Transmission System Operators, Inc.

E-16.

Docket# ER03-312, 000, Pacific Gas and Electric Company

E-17.

Omitted

E-18. Docket# ER02-851, 008, Southern Company Services, Inc.

E-19.

Omitted

E-20.

Docket# ER97-1523, 072, Central Hudson Gas & Electric Corporation, Consolidated Edison Co. of New York, Inc., Long Island Power Authority, New York State Electric & Gas Corporation, Niagara Mohawk Power Corporation, Orange and Rockland Utilities, Inc., and Rochester Gas and Electric Corporation

Other#s OA97-470, 067, Central Hudson Gas & Electric Corporation, Consolidated Edison Co. of New York, Inc., Long Island Power Authority, New York State Electric & Gas Corporation, Niagara Mohawk Power Corporation, Orange and Rockland Utilities, Inc., and Rochester Gas and Electric Corporation

ER97-4234, 065, Central Hudson Gas & Electric Corporation, Consolidated Edison Co. of New York, Inc., Long Island Power Authority, New York State Electric & Gas Corporation, Niagara Mohawk Power Corporation, Orange and Rockland Utilities, Inc., and Rochester Gas and Electric Corporation

E-21.

Docket# ER97-1523, 079, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470, 071, Central Hudson Gas & Electric Corporation Consolidated Edison Company of New York, Inc., Long Island Lighting Company, New York State Electric and Gas Corporation, Niagara Mohawk Power Corporation, Orange and Rockland Utilities, Inc., Rochester Gas and Electric Corporation and New York Power Pool

ER97-4234, 069, Central Hudson Gas & Electric Corporation Consolidated Edison Company of New York, Inc., Long Island Lighting Company, New York State Electric and Gas Corporation, Niagara Mohawk Power Corporation, Orange and Rockland Utilities, Inc., Rochester Gas and Electric Corporation and New York Power Pool

E-22.

Docket# ER01-414, 002, Consumers Energy Company, on behalf of Michigan Electric Transmission Company

E-23.

Docket# EL00-95, 082, San Diego Gas & Electric Company v. Sellers of Energy and Ancillary Services Into Markets Operated by the California Independent System Operator and the California Power Exchange

Other#s EL00-98, 070, Investigation of Practices of the California Independent System Operator Corporation and the California Power Exchange

E-24.

Docket# EL03-51, 001, North Hartland, LLC

E-25.

Omitted

E-26.

Omitted

E-27.

Docket# ER03-414, 002, Progress Energy Carolinas, Inc

Other#s ER03-414, 001, Progress Energy Carolinas, Inc

ER03-415, 001, Progress Energy Carolinas, Inc

ER03-415, 002, Progress Energy Carolinas, Inc

E-28.

Docket# ER03-19, 002, Detroit Edison Company

Other#s RT01-101, 007, International Transmission Company and DTE Energy Company

EC01-146, 007, International Transmission Company and DTE Energy Company

ER01-3000, 007, International Transmission Company and DTE Energy Company

E-29.

Omitted

E-30.

Omitted

E-31.

Docket# ER03-218, 004, California Independent System Operator Corporation

Other#s EC03-81, 001, California Independent System Operator Corporation

ER03-219, 004, California Independent System Operator Corporation

E-32.

Omitted

E-33.

Omitted

E-34.

Docket# ER03-583, 003, Entergy Services, Inc., and EWO Marketing, LP

Other#s ER03-681, 002, Entergy Services, Inc., and Entergy Power, Inc.

ER03-682, 003, Entergy Services, Inc., and Entergy Power, Inc.

ER03-744, 002, Entergy Services, Inc., and Entergy Louisiana, Inc.

E-35.

Docket# ER02-2330, 015, New England Power Pool and ISO New England, Inc.

Other#s ER02-2330, 016, New England Power Pool and ISO New England, Inc.

ER02-2330, 017, New England Power Pool and ISO New England, Inc.

E-36.

Omitted

E-37.

Docket# EL02-128, 003, Sithe New England Holdings, LLC v. ISO New England, Inc.

Other#s EL02-128, 002, Sithe New England Holdings, LLC v. ISO New England, Inc.

E-38.

Docket# EL02-65, 012, Alliance Companies, Ameren Services Company on behalf of: Union Electric Company and Central Illinois Public Service Company

American Electric Power Service Corporation on behalf of: Appalachian Power Company, Columbus Southern Power Company, Indiana Michigan Power Company, Kentucky Power Company, Kingsport Power Company, Ohio Power Company and Wheeling Power Company

Dayton Power and Light Company, Exelon Corporation on behalf of: Commonwealth Edison Company and Commonwealth Edison Company of Indiana, Inc.

FirstEnergy Corporation on behalf of: American Transmission Systems, Inc., Cleveland Electric Illuminating Power Company, Ohio Edison Company, Pennsylvania Power Company and Toledo Edison Company

Illinois Power Company, Northern Indiana Public Company and National Grid USA

Other#s EC99-80, 022, Alliance Companies Ameren Services Company on behalf of: Union Electric Company and Central Illinois Public Service Company

American Electric Power Service Corporation on behalf of: Appalachian Power Company, Columbus Southern Power Company, Indiana Michigan Power Company, Kentucky Power Company, Kingsport Power Company, Ohio Power Company and Wheeling Power Company

Consumers Energy Company and the Michigan Electric Transmission Company, Dayton Power and Light Company, Detroit Edison Company and International Transmission Company

ER99-3144, 022, Alliance Companies

Ameren Services Company on behalf of: Union Electric Company and Central Illinois Public Service Company

American Electric Power Service Corporation on behalf of: Appalachian Power Company, Columbus Southern Power Company, Indiana Michigan Power Company, Kentucky Power Company, Kingsport Power Company, Ohio Power Company and Wheeling Power Company

Consumers Energy Company and the Michigan Electric Transmission Company, Dayton Power and Light Company, Detroit Edison Company and International Transmission Company

RT01-26, 006, Northern Indiana Public Service Company

RT01-37, 006, Dayton Power and Light Company

RT01-84, 006, Illinois Power Company

RT01-88, 023, Alliance Companies, Ameren Services Company on behalf of: Union Electric Company and Central Illinois Public Service Company

American Electric Power Service Corporation on behalf of: Appalachian Power Company, Columbus Southern Power Company, Indiana Michigan Power Company, Kentucky Power Company, Kingsport Power Company, Ohio Power Company and Wheeling Power Company

Consumers Energy Company and Michigan Electric Transmission Company, Dayton Power and Light Company,

Exelon Corporation on behalf of: Commonwealth Edison Company and Commonwealth Edison Company of Indiana, Inc.

FirstEnergy Corporation on behalf of: American Transmission Systems, Inc., Cleveland Electric Illuminating Power Company, Ohio Edison Company, Pennsylvania Power Company and Toledo Edison Company

Illinois Power Company, Northern Indiana Public Service Company and Virginia Electric and Power Company

ER01-123, 010, Illinois Power Company

ER01-2992, 005, Exelon Corporation on behalf of: Commonwealth Edison Company and Commonwealth Edison Company of Indiana, Inc.

FirstEnergy Corporation on behalf of: American Transmission Systems, Inc., Cleveland Electric Illuminating Power Company, Ohio Edison Company, Pennsylvania Power Company and Toledo Edison Company

ER01-2993, 005, Virginia Electric and Power Company

ER01-2995, 005, American Electric Power Service Corporation on behalf of: Appalachian Power Company, Columbus Southern Power Company, Indiana Michigan Power Company, Kentucky Power Company, Kingsport Power Company, Ohio Power Company and Wheeling Power Company

ER01-2997, 005, Dayton Power and Light Company

ER01-2999 005 Illinois Power Company

EL02-111, 003, Midwest Independent Transmission System Operator, Inc., PJM Interconnection, L.L.C., and all Transmission Owners (including the entities identified below) Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Entergy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc., and its subsidiary Superior Water, Light & Power Company, Montana-Dakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, Florida Power & Light Company, GPU Energy, Northeast Utilities Service Company, Ohio Power Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG&E Electric Services, Southwestern Public Service Company, Empire District Electric Company, Western Resources and Kansas Gas & Electric Co.

E-39.

Omitted

E-40.

Docket# ER03-746, 002, California Independent System Operator Corporation

Other#s ER03-746, 001, California Independent System Operator Corporation

E-41.

Omitted

E-42.

Docket# EL03-137 et al., 000, American Electric Power Service Corporation, et al.

Other#s EL00-95 et al., 000, San Diego Gas & Electric Company v. Sellers of Energy and Ancillary Services Into Markets Operated by the California Independent Systems Operator and the California Power Exchange

EL00-98 et al., 000, Investigation of Practices of California Independent System Operator Corporation & The California Power Exchange

PA02-2 et al., 000, Fact-Finding Investigation of Potential Manipulation of Electric and Natural Gas Prices

EL03-180 et al., 000, Enron Power Marketing, Inc., and Enron Energy Services Inc., et al.

E-43.

Docket# EL02-45, 000, California Independent System Operator Corporation

E-44.

Docket# EL03-14, 000, City of Azusa, California

Other#s EL03-15, 000, City of Anaheim, California

EL03-15, 002, City of Anaheim, California

EL03-20, 000, City of Riverside, California

EL03-20, 002, City of Riverside, California

EL03-21, 000, City of Banning, California

E-45.

Docket# EL03-219, 000, Central Iowa Power Cooperative, Clarke Electric Cooperative, Inc., Consumers Energy Cooperative, East-Central Iowa Rural Electric Cooperative, Farmers Electric Cooperative, Inc., Guthrie County Rural Electric Cooperative Association, Marquoketa Valley Electric Cooperative, Midland Power Cooperative, Pella Cooperative Electric Association, Rideta Electric Cooperative, Inc., South Iowa Municipal Electric Cooperative Association; Southwest Iowa Service Cooperative and T.I.P. Rural Electric Cooperative

E-46.

Docket# EL03-53, 000, Gregory Swecker v. Midland Power Cooperative

E-47.

Omitted

E-48.

Omitted

E-49.

Docket# EL03-26, 000, New York Independent System Operator, Inc. v. Dynegy Power Marketing, Inc.

E-50.

Docket# EG03-109, 000, High Desert Power Project, LLC

Other#s EG03-110, 000, High Desert Power Trust

E-51.

Docket# ER01-2658, 000, American Electric Power Service Corporation

Other#s EL00-79, 000, American Electric Power Service Corporation

EL01-113, 000, American Electric Power Service Corporation

EC01-130, 000, American Electric Power Service Corporation

ER01-2658, 001, American Electric Power Service Corporation

ER01-2668, 000, American Electric Power Service Corporation

ER01-2977, 000, American Electric Power Service Corporation

ER01-2977, 001, American Electric Power Service Corporation

ER01-2980, 000, American Electric Power Service Corporation

ER01-2980, 001, American Electric Power Service Corporation

EL02-24, 000, American Electric Power Service Corporation

ER02-371, 000, American Electric Power Service Corporation

ER02-371, 001, American Electric Power Service Corporation

ER02-371, 002, American Electric Power Service Corporation

ER02-602, 000, American Electric Power System Corporation

ER02-602, 001, American Electric Power Service Corporation

ER02-1216, 000, American Electric Power Service Corporation

ER02-1410, 000, American Electric Power Service Corporation

E-52.

Docket# ER03-1341, 000, Michigan Electric Transmission Company, LLC

E-53.

Docket# ER02-2119, 000, Southern California Edison Company

E-54.

Docket# ER02-2001, 000, Electric Quarterly Reports

Other#s ER94-1246, 000, Ashton Energy Corporation

ER95-751, 000, PowerGasSmart.com, Inc.

ER95-878, 000, Audit Pro Incorporated

ER95-1381, 000, Alliance Strategies

ER95-1399, 000, Electech, Inc.

ER95-1752, 000, Enpower, Inc.

ER96-734, 000, Energy Marketing Services, Inc.

ER96-924, 000, Direct Access Management, LP

ER96-1631, 000, Family Fiber Connection, Inc.

ER96-1731, 000, Engineered Energy Systems Corporation

ER96-1774, 000, Growth Unlimited Investments, Inc.

ER96-1781, 000, EnergyTek, Inc.

ER96-2879, 000, U.S. Energy, Inc.

ER97-1117, 000, TC Power Solutions

ER97-1676, 000, Black Brook Energy Company

ER97-3053, 000, Keystone Energy Services, Inc.

ER97-3815, 000, Friendly Power Company, LLC

ER97-4145, 000, Sigma Energy, Inc.

ER97-4364, 000, PowerCom Energy & Communications Access, Inc.

ER97-4434, 000, Clean Air Capital Markets Corporation

ER97-4680, 000, Starghill Alternative Energy Corporation

ER98-102, 000, Current Energy, Inc.

ER98-1221, 000, Micah Tech Industries, Inc.

ER98-1297, 000, TransCurrent, LLC

ER98-2232, 000, People's Utility Corporation

ER98-2423, 000, The FURSTS Group, Inc.

ER98-3006, 000, K&K Resources, Inc.

ER98-3052, 000, PowerSource Corporation

ER98-3451, 000, American Premier Energy Corporation

ER98-3934, 000, Clinton Energy Management Services, Inc.

ER99-581, 000, Business Discount Plan, Inc.

ER99-823, 000, River City Energy, Inc.

ER99-1890, 000, Commodore Electric

ER99-2540, 000, Full Power Corporation

ER99-2970, 000, Delta Energy Group

ER00-1530, 000, Energy & Stream Company, Inc.

ER01-1414, 000, Northern Lights Power Company

ER01-2059, 000, Entrust Energy, LLC

ER02-893, 000, Dorman Materials, Inc.

Markets, Tariffs and Rates—Gas

G-1.

Docket# RM03-10, 000, Amendments to Blanket Sales Certificates

G-2.

Docket# RP00-241, 000, California Public Utilities Commission

Other#s RP00-241, 006, California Public Utilities Commission

RP00-241, 008, California Public Utilities Commission

G-3.

Docket# RP96-200, 092, CenterPoint Energy Gas Transmission Company

Other#s RP96-200, 097, CenterPoint Energy Gas Transmission Company

RP96-200, 101, CenterPoint Energy Gas Transmission Company

RP96-200, 102, CenterPoint Energy Gas Transmission Company

RP96-200, 103, CenterPoint Energy Gas Transmission Company

RP96-200, 104, CenterPoint Energy Gas Transmission Company

RP96-200, 105, CenterPoint Energy Gas Transmission Company

RP96-200, 106, CenterPoint Energy Gas Transmission Company

RP96-200, 107, CenterPoint Energy Gas Transmission Company

RP96-200, 108, CenterPoint Energy Gas Transmission Company

RP96-200, 110, CenterPoint Energy Gas Transmission Company

RP96-200, 111, CenterPoint Energy Gas Transmission Company

G-4.

Omitted

G-5.

Docket# RP02-116, 001, Northwest Pipeline Corporation

G-6.

Docket# RP00-336, 021, El Paso Natural Gas Company

G-7.

Docket# PR03-12, 000, Overland Trail Transmission, LLC

Other#s PR03-12, 001, Overland Trail Transmission, LLC

G-8.

Docket# GT02-38, 007, Northern Natural Gas Company

G-9.

Docket# RP03-507, 001, Northern Border Pipeline Company

G-10.

Docket# RP03-545, 001, Dominion Cove Point LNG, LP

G-11.

Docket# RP02-114, 003, Tennessee Gas Pipeline Company

Other#s RP02-114, 002, Tennessee Gas Pipeline Company

G-12.

Docket# RP03-465, 002, ANR Pipeline Company

G-13.

Omitted

G-14.

Docket# RP02-183, 001, Transcontinental Gas Pipe Line Corporation

G-15.

Docket# RP02-367, 002, Northern Border Pipeline Company

G-16.

Omitted

G-17.

Docket# OR03-7, 000, Tesoro Refining & Marketing Company v. Frontier Pipeline Company

Energy Projects—Hydro

H-1.

Docket# P-2525, 057, Wisconsin Public Service Corporation

Other#s P-2522, 079, Wisconsin Public Service Corporation

P-2546, 075, Wisconsin Public Service Corporation

P-2560, 058, Wisconsin Public Service Corporation

P-2595, 080, Wisconsin Public Service Corporation

H-2.

Docket# P-2299, 000, Turlock Irrigation District and Modesto Irrigation District

H-3.

Docket# P-1927, 008, PacifiCorp

H-4.

Docket# P-516, 374, South Carolina Electric & Gas Company

Energy Projects—Certificates

C-1.

Docket# CP01-176, 000, Georgia Strait Crossing Pipeline LP

Other#s CP01-179, 001, Georgia Strait Crossing Pipeline LP

C-2.

Omitted

C-3.

Docket# CP03-74, 000, Dominion Cove Point LNG, LP

C-4.

Docket# CP01-416, 002, Sierra Production Company

C-5.

Docket# CP96-248, 011, Portland Natural Gas Transmission System

C-6.

Docket# CP02-396, 004, Greenbrier Pipeline Company, LLC

Other#s CP02-397, 004, Greenbrier Pipeline Company, LLC

CP02-398, 004, Greenbrier Pipeline Company, LLC

C-7.

Docket# CP03-1, 001, El Paso Natural Gas Company

C-8.

Docket# CP03-11, 001, Jupiter Energy Corporation

C-9.

Docket# CP02-233, 001, Equitrans, L.P., and Carnegie Interstate Pipeline Company

Magalie R. Salas,
Secretary.

[FR Doc. 03-28470 Filed 11-7-03; 4:06 pm]

BILLING CODE 6717-01-P